DEPARTMENT OF HEALTH AND HUMAN SERVICES

Centers for Disease Control and Prevention

Clinical Laboratory Improvement Advisory Committee (CLIAC)

In accordance with section 10(a)(2) of the Federal Advisory Committee Act (Pub. L. 92-463), the Centers for Disease Control and Prevention (CDC) announces the following meeting for the aforementioned committee:

Times and Dates:

8 a.m.-5 p.m., February 20, 2008.

8 a.m.-3:30 p.m., February 21, 2008.

Place: Centers for Disease Control and Prevention, 1600 Clifton Road, NE., Tom Harkin Global Communications Center, Building 19, Room 232, Auditorium B, Atlanta, Georgia 30333.

Status: Open to the public, limited only by the space available. The meeting room accommodates approximately 100 people.

Purpose: This Committee is charged with providing scientific and technical advice and guidance to the Secretary of Health and Human Services, the Assistant Secretary for Health, and the Director, CDC, regarding the need for, and the nature of, revisions to the standards under which clinical laboratories are regulated; the impact on medical and laboratory practice of proposed revisions to the standards; and the modification of the standards to accommodate technological advances.

Matters To Be Discussed: The agenda will include updates from the CDC, the Centers for Medicare & Medicaid Services, and the Food and Drug Administration; and presentations and discussion addressing “20 Years of CLIA: Needs for Quality Then vs. Now;” evidence gathered since CLIA implementation demonstrating the impact of standards/accreditation on laboratory quality; perspectives on Quality Management System implementation; and laboratory biosafety. Agenda items are subject to change as priorities dictate.

Due to administrative issues that had to be resolved, the Federal Register notice is being published less than fifteen days before the date of the meeting.

Contact Person for More Information: Nancy Anderson, Chief, Laboratory Practice Standards Branch, Division of Laboratory Systems, National Center for Preparedness, Detection, and Control of Infectious Diseases, Coordinating Center for Infectious Diseases, CDC, 1600 Clifton Road, NE., Mailstop F-11, Atlanta, Georgia 30333; telephone (404) 718-1025; fax (404) 718-1085; or via e-mail at Nancy.Anderson@cdc.hhs.gov.

The Director, Management Analysis and Services Office, has been delegated the authority to sign Federal Register notices pertaining to announcements of meetings and other committee management activities, for both CDC and the Agency for Toxic Substances and Disease Registry.

Dated: February 19, 2008.
Elaine L. Baker,
Director, Management Analysis and Services Office, Centers for Disease Control and Prevention (CDC).

[FR Doc. 08-824 Filed 2-20-08; 10:32 am]

BILLING CODE 4163-18-P